DEPARTMENT OF COMMERCE

International Trade Administration

[A-570-188, A-557-832]

Float Glass Products From the People's Republic of China and Malaysia: Postponement of Preliminary Determinations in the Less-Than-Fair-Value Investigations

AGENCY: Enforcement and Compliance, International Trade Administration, Department of Commerce.

DATES: Applicable April 17, 2025.

FOR FURTHER INFORMATION CONTACT: Dmitry Vladimirov (the People's Republic of China (China)) and Jeffrey Pedersen (Malaysia), AD/CVD Operations, Enforcement and Compliance, International Trade Administration, U.S. Department of Commerce, 1401 Constitution Avenue NW, Washington, DC 20230; telephone: (202) 482-0665 and (202) 482-2769, respectively.

SUPPLEMENTARY INFORMATION:

Background

On January 8, 2025, the U.S. Department of Commerce (Commerce) initiated the less-than-fair-value (LTFV) investigations on imports of float glass products from China and Malaysia.¹ The preliminary determinations are currently due no later than May 20, 2025.

¹ See Float Glass Products from the People's Republic of China and Malaysia: Initiation of Less-Than-Fair-Value Investigation, 90 FR 1435 (January 8, 2025).

Postponement of Preliminary Determinations

Section 733(b)(1)(A) of the Tariff Act of 1930, as amended (the Act), requires Commerce to issue the preliminary determination in an LTFV investigation within 140 days after the date on which Commerce initiated the investigation. However, section 733(c)(1)(A) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On March 31, 2025, Vitro Flat Glass, LLC and Vitro Meadville Flat Glass, LLC. (the petitioner) submitted a timely request that Commerce postpone the preliminary determinations in these LTFV investigations.² The petitioner stated that it requests postponement to ensure that Commerce has sufficient time to review and consider the information provided in questionnaire responses and allow the petitioner time to submit rebuttal factual information or otherwise comment on the adequacy of any questionnaire responses.³

² See Petitioner's Letter, “Request to Extend Preliminary Determinations,” dated March 31, 2025.

³ Id.

For the reasons stated above and because there are no compelling reasons to deny the request, Commerce is postponing the deadline for the preliminary determinations by 50 days, i.e., 190 days after the date on which these investigations were initiated, in accordance with section 733(c)(1)(A) of the Act. As a result, Commerce will issue its preliminary determinations no later than July 9, 2025. In accordance with section 735(a)(1) of the Act and 19 CFR 351.210(b)(1), the deadline for the final determinations of these investigations will continue to be 75 days after the date of the preliminary determinations, unless postponed at a later date.

Notification to Interested Parties

This notice is issued and published pursuant to section 733(c)(2) of the Act and 19 CFR 351.205(f)(1).

Dated: April 7, 2025.
Christopher Abbott,
Deputy Assistant Secretary for Policy and Negotiations, performing the non-exclusive functions and duties of the Assistant Secretary for Enforcement and Compliance.

[FR Doc. 2025-06585 Filed 4-16-25; 8:45 am]

BILLING CODE 3510-DS-P